NUCLEAR REGULATORY COMMISSION

Sunshine Federal Register Notice

Date: Week of May 28, 2007.

Place: Commissioners' Conference Room, 11555 Rockville Pike, Rockville, Maryland.

Status: Public and Closed.

Additional items to be considered:

Week of May 28, 2007—Tentative

Wednesday, May 30, 2007

9:25 a.m. Affirmation Session (Public Meeting) (Tentative):

a. USEC Inc. (American Centrifuge Plant), LBP-07-06 (Initial Decision Authorizing License), Geoffrey Sea Letter “in preparation of late-filed contentions” (Tentative).

b. Shieldalloy Metallurgical Corp. (Licensing Amendment Request for Decommissioning of the Newfield, New Jersey Facility), Docket No. 40-7102-MLA, Appeal of Loretta Williams from LBP-07-05 (Tentative).

This meeting will be webcast live at the Web address— http://www.nrc.gov.

* * * * *

• The schedule for Commission meetings is subject to change on short notice. To verify the status of meetings call (recording)—(301) 415-1292. Contact person for more information: Michelle Schroll, (301) 415-1662.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g. Braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 14, 2007.
R. Michelle Schroll,
Office of the Secretary.

[FR Doc. 07-2467 Filed 5-15-07; 12:27 pm]

BILLING CODE 7590-01-P